DEPARTMENT OF COMMERCE

National Oceanic and Atmospheric Administration

50 CFR Part 660

[Docket No. 020430101-2101-01; I.D. 101102F]

Fisheries Off West Coast States and in the Western Pacific; West Coast Salmon Fisheries; Inseason Action 16--Adjustment of the Commercial Fishery from the Oregon-California Border to the Humboldt South Jetty

AGENCY: National Marine Fisheries Service (NMFS), National Oceanic and Atmospheric Administration (NOAA), Commerce.

ACTION: Inseason adjustment; request for comments.

SUMMARY: NMFS announces that the commercial salmon fishery in the area from the Oregon-California Border to the Humboldt South Jetty, was modified to close at midnight on Friday, September 20, 2002, and then reopen Thursday, September 26, 2002, through midnight on Friday, September 27, 2002. On September 19, 2002, the Northwest Regional Administrator, NMFS (Regional Administrator), determined that available catch and effort data indicated that the quota of 10,000 chinook salmon would be reached by September 20, 2002. However, after reevaluating the available catch and effort data on September 24, 2002, it was found that there was enough salmon left in the chinook quota to allow an additional 2 days of fishing. These actions were necessary to conform to the 2002 management goals.

DATES: Closure in the area from the Oregon-California Border to the Humboldt South Jetty effective 2359 hours local time (l.t.), September 20, 2002;

Reopening in the area from the Oregon-California Border to the Humboldt South Jetty effective 0001 hours l.t., September 26, 2002, through 2359 hours l.t., September 27, 2002, after which the fishery will remain closed until opened through an additional inseason action, which will be published in the Federal Register for the west coast salmon fisheries, or until the effective date of the year 2003 management measures.

Comments will be accepted through November 12, 2002.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator modified the season for the commercial salmon fishery in the area from the Oregon-California Border to the Humboldt South Jetty, to close at midnight on Friday, September 20, 2002, and then reopen Thursday, September 26, 2002, through midnight on Friday, September 27, 2002. On September 19, 2002, the Northwest Regional Administrator, NMFS (Regional Administrator), determined that available catch and effort data indicated that the quota of 10,000 chinook salmon would be reached by September 20, 2002. However, after reevaluating the available catch and effort data on September 24, 2002, it was found that there was enough salmon left in the chinook quota to allow an additional 2 days of fishing. Automatic season closures based on quotas are authorized by regulations at 50 CFR 660.409(a)(1), and modification of fishing seasons is authorized by regulations at 50 CFR 660.409(b)(1)(i).

In the 2002 annual management measures for ocean salmon fisheries (67 FR 30616, May 7, 2002), NMFS announced the commercial fishery for all salmon except coho in the area from the Oregon-California Border to the Humboldt South Jetty would open August 16, 2002, through the earlier of August 30, 2002, or an 3,000-chinook quota, and September 1, 2002, through the earlier of September 30, 2002, or a 10,000-chinook quota. The area also had a possession and landing limit of 40 fish per day, with all fish required to be landed within the area and within 24 hours of any closure of the fishery.

On September 19, 2002, the Regional Administrator consulted with representatives of the Pacific Fishery Management Council (Council) and the California Department Fish and Game (CDFG) by conference call. Information related to catch to date, the chinook catch rate, and effort data indicated that it was likely that the chinook quota would be reached by Friday, September 20, 2002. As a result, the State of California recommended, and the Regional Administrator concurred, that the area from the Oregon-California Border to the Humboldt South Jetty close effective at midnight on Friday, September 20, 2002. All other restrictions that apply to this fishery remained in effect as announced in the 2002 annual management measures. In addition, the parties agreed to reevaluate the fishery the following week and assess the possibility of further open fishing periods if the catch estimates turned out to be low.

On September 24, 2002, the Regional Administrator again consulted with representatives of the Council and the CDFG by conference call. Information related to catch to date, the chinook catch rate, and effort data indicated that there was enough chinook left in the quota to allow 2 more days of fishing. As a result, the State of California recommended, and the Regional Administrator concurred, that the commercial salmon fishery in the area from the Oregon-California Border to the Humboldt South Jetty should be modified to reopen Thursday, September 26, 2002, through midnight on Friday, September 27, 2002, to access the available chinook left in the quota. In addition, the landing restriction language was modified to a possession and landing limit of 40 fish per day, with no vessel landing or delivering more than 80 chinook for the entire 2 day open period, all fish required to be landed within the area and within 24 hours of the fishery closure. Additionally, salmon caught outside the open area were not allowed to be landed in the area until after midnight on Saturday, September 28, 2002. This final modification was needed to clarify the intent of the landing restriction and minimize complications related to catch accounting that may result from landing salmon from outside the catch area. All other restrictions that applied to this fishery remained in effect as announced in the 2002 annual management measures and subsequent inseason actions.

The Regional Administrator determined that the best available information indicated that the catch and effort data, and projections, supported the above inseason actions recommended by the States. The States manage the fisheries in State waters adjacent to the areas of the U.S. exclusive economic zone in accordance with this Federal action. As provided by the inseason notice procedures of 50 CFR 660.411 (a)(2), actual notice to fishers of the above described actions were given prior to the effective dates by telephone hotline number 206-526-6667 and 800-662-9825, and by U.S. Coast Guard Notice to Mariners broadcasts on Channel 16 VHF-FM and 2182 kHz.

These actions do not apply to other fisheries that may be operating in other areas.

Classification

The Assistant Administrator for Fisheries, NOAA (AA), finds that good cause exists for this notification to be issued without affording prior notice and opportunity for public comment under 5 U.S.C. 553(b)(B), or delaying the effectiveness of this rule for 30 days under 5 U.S.C. 553(d)(3), because such notification and delay is impracticable and contrary to the public interest. As previously noted, actual notice of these actions was provided to fishers through telephone hotline and radio notification. These actions comply with the requirements of the annual management measures for ocean salmon fisheries (67 FR 30616, May 7, 2002) and the West Coast Salmon Plan. Prior notice and opportunity for public comment is impracticable because NMFS and the State agencies have insufficient time to provide for prior notice and the opportunity for public comment between the time the fishery catch and effort data are collected to determine the extent of the fisheries, and the time the limits to which the fishery must be in place. Moreover, such prior notice and the opportunity for public comment is contrary to the public interest because it does not allow fishers appropriately controlled access to the available fish at the time they are available.

The AA finds good cause to waive the 30-day delay in effectiveness required under 5 U.S.C. 553(d)(3). A delay in effectiveness of this action would not allow fishers appropriately controlled access to the available fish at the time they are available.

This action is authorized by 50 CFR 660.409 and 660.411 and is exempt from review under Executive Order 12866.

Authority: Authority: 16 U.S.C. 1801 et seq.

Dated: October 21, 2002.
Bruce C. Morehead,
Acting Director, Office of Sustainable Fisheries, National Marine Fisheries Service.

[FR Doc. 02-27262 Filed 10-24-02; 8:45 am]

BILLING CODE 3510-22-S